NATIONAL SCIENCE FOUNDATION

Sunshine Act Meetings; National Science Board

The National Science Board's Committee on Audit and Oversight (AO), pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Wednesday, August 5, 2015 at 2:00-3:00 p.m. EDT.

SUBJECT MATTER: Discussion of the current faculty salary two-month rule and possible prospective options.

STATUS: Closed.

This meeting will be held by teleconference. Please refer to the National Science Board Web site for additional information and schedule updates (time, place, subject matter or status of meeting), which may be found at http://www.nsf.gov/nsb/meetings/notices/jsp. Point of contact for this meeting is Ann Bushmiller (abushmil@nsf.gov).

Kyscha Slater-Williams,
Program Specialist.

[FR Doc. 2015-18895 Filed 7-28-15; 4:15 pm]

BILLING CODE 7555-01-P